DEPARTMENT OF COMMERCE

National Oceanic and Atmospheric Administration

[I.D. 031601B]

Endangered Species; Permits

AGENCY: National Marine Fisheries Service (NMFS), National Oceanic and Atmospheric Administration (NOAA), Commerce.

ACTION: NMFS has issued modification #1 to permit 1231 and modification #1 to permit 1201.

SUMMARY: Notice is hereby given of the following actions regarding permits for takes of endangered and threatened species for the purposes of scientific research and/or enhancement under the Endangered Species Act (ESA): NMFS has issued modification #1 to permit 1231 to Dr. Lewis Ehrhart, University of Central Florida and NMFS has issued modification #1 to permit #1201 to Dr. Thane Wibbels, University of Alabama at Birmingham.

DATES: Comments or requests for a public hearing on any of the new applications or modification requests must be received at the appropriate address or fax number no later than 5 p.m. eastern standard time on April 26, 2001.

ADDRESSES: The permits and related documents are available for review in the indicated office, by appointment:

Endangered Species Division, F/PR3, 1315 East West Highway, Silver Spring, MD 20910 (phone:301-713-1401, fax: 301-713-0376).

FOR FURTHER INFORMATION CONTACT: Terri Jordan, Silver Spring, MD (phone: 301-713-1401, fax: 301-713-0376, e-mail: Terri.Jordan@noaa.gov)

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea turtles

Threatened and endangered Green turtle (Chelonia mydas)

Endangered Hawksbill turtle (Eretmochelys imbricata)

Endangered Kemp's ridley turtle (Lepidochelys kempii)

Leatherback turtle (Dermochelys coriacea)

Threatened Loggerhead turtle (Caretta caretta)

Permits and Modified Permits Issued

Permit #1231

Notice was published on December 29, 2000 (65 FR 82977) that Dr. Lew Erhart, of the University of Central Florida applied for a modification to permit #1231. The applicant holds a five-year permit to take and conduct research on green, hawksbill, Kemp's ridley, Leatherback and loggerhead turtles living in the Indian River Lagoon Estuary of central Florida in Brevard and Indian River counties. The data provided by the study will include information regarding habitat requirements, seasonal distribution and abundance, movement and growth, feeding preferences, sex distribution and the prevalence and severity of fibropapilloma. Modification #1 authorizes attaching satellite tags to no more than eight large juvenile green turtles. Modification #1 to Permit 1231 was issued on March 9, 2001, authorizing take of listed species. Permit 1231 expires March 31, 2005.

Permit #1201

Notice was published on December 14, 2000 (65 FR 78146) that Dr. Thane Wibbels, University of Alabama at Birmingham applied for a modification to permit #1231. Modification #1 extends the expiration date of the permit from February 28, 2001 to February 28, 2003. The applicant possesses a two-year scientific research permit to take up to 50 green (Chelonia mydas), 100 Kemp's ridley (Lepidochelys kempii) and 100 loggerhead (Caretta caretta) turtles annually in large mesh tangle nets. The purpose of the research is to evaluate the abundance, movements, and location of sea turtles in the estuaries of Alabama, and to potentially identify specific foraging areas. The presence of juvenile sea turtles in estuaries represents a potential conflict for fisheries and coastal development. However, there is little information about this issue for the estuaries of Alabama. The proposed research is a prerequisite to determining if the estuaries of Alabama represent a developmental habitat for sea turtles, and will benefit the species by providing information critical to developing a prudent management strategy which protects sea turtles while sustaining the productivity of the fisheries. Modification #1 to Permit 1201 was issued on March 9, 2001, authorizing take of listed species. Permit 1201 expires February 28, 2003.

Dated: March 20, 2001.
Phil Williams,
Acting Chief, Endangered Species Division, Office of Protected Resources, National Marine Fisheries Service.

[FR Doc. 01-7541 Filed 3-26-01; 8:45 am]

BILLING CODE 3510-22-S